DEPARTMENT OF COMMERCE

Foreign-Trade Zones Board

[Order No. 1744]

Grant of Authority for Subzone Status; Max Home, LLC (Upholstered Furniture); Fulton and Iuka, MS

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the Greater Mississippi Foreign-Trade Zone, Inc., grantee of Foreign-Trade Zone 158, has made application to the Board for authority to establish a special-purpose subzone at the upholstered furniture manufacturing facilities of Max Home, LLC located in Fulton and Iuka, Mississippi (FTZ Docket 41-2009, filed 8-3-2009; amended 3-12-2010);

Whereas, notice inviting public comment has been given in the Federal Register (74 FR 52454, 10-13-2009; 75 FR 12730, 3-17-2010) and the application has been processed pursuant to the FTZ Act and the Board's regulations; and,

Whereas, the Board adopts the findings and recommendations of the examiner's report, and finds that the requirements of the FTZ Act and Board's regulations would be satisfied, and that the proposal would be in the public interest if subject to the restrictions listed below;

Now, therefore, the Board hereby grants authority for subzone status for activity related to the manufacture of upholstered furniture at the Max Home, LLC facilities located in Fulton and Iuka, Mississippi (Subzone 158F), as described in the application and Federal Register notices, subject to the FTZ Act and the Board's regulations, including Section 400.28, and further subject to the following conditions:

1. The annual quantitative volume of foreign micro-denier suede upholstery fabric finished with a hot caustic soda solution that Max Home, LLC may admit to the proposed subzone under nonprivileged foreign status (19 CFR 146.42) is limited to 2.23 million square yards.

2. Max Home, LLC must admit all foreign-origin upholstery fabrics other than micro-denier suede fabric finished with a hot caustic soda solution to the proposed subzone under domestic (duty-paid) status (19 CFR 146.43).

3. For the purpose of monitoring by the FTZ Staff, Max Home, LLC shall submit additional operating information to supplement its annual report data.

4. The subzone authority for the Max Home, LLC facilities shall remain in effect for a period of five years from the date of approval by the FTZ Board.

Signed at Washington, DC, this 18th day of February 2011.
Ronald K. Lorentzen,
Deputy Assistant Secretary for Import Administration, Alternate Chairman, Foreign-Trade Zones Board.
Attest:
Andrew McGilvray,
Executive Secretary.

[FR Doc. 2011-4672 Filed 3-1-11; 8:45 am]

BILLING CODE P